DEPARTMENT OF TRANSPORTATION

Federal Aviation Administration

[Docket No. FAA-2024-1191]

Agency Information Collection Activities: Requests for Comments; Clearance of a New Approval of Information Collection: International Traveler Information Card

AGENCY: Federal Aviation Administration (FAA), DOT.

ACTION: Notice and request for comments.

SUMMARY: In accordance with the Paperwork Reduction Act of 1995, FAA invites public comments about our intention to request the Office of Management and Budget (OMB) approval for a new information collection. The collection involves obtaining information from FAA employees and contractors who will travel overseas on official business. The information to be collected will be used in the event an FAA employee and/or contractor is isolated overseas and requires lifesaving assistance.

DATES: Written comments should be submitted by July 1, 2024.

ADDRESSES: Please send written comments:

By Electronic Docket: www.regulations.gov (Enter docket number into the search field).

By mail: Michael S. Raby, FAA National Headquarters, 800 Independence Ave. SW, Washington, DC 20591.

By fax: 202-267-8496.

FOR FURTHER INFORMATION CONTACT: Michael S. Raby, Division Manager, FAA Office of Investigations and Professional Responsibility (AXI-500), by email at: michael.raby@faa.gov; phone: (202) 604-2419.

SUPPLEMENTARY INFORMATION: The collection information is necessary to comply with 22 U.S.C. 3927 and 4802, which require Federal agencies to have personnel information on file in the event of an isolating event overseas.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: International Traveler Information Card.

Form Numbers: There are no FAA forms associated with this information collection.

Type of Review: New information collection.

Background

The International Traveler Information Card (ITIC) is an electronic form that FAA employees and contractors will complete prior to international travel on official business. The purpose of the form is to collect pertinent data to be used in the event a FAA employee and/or contractor are isolated overseas and require lifesaving assistance. This data will assist in the government's ability to properly identify individuals and provide, if necessary, medical support and personal items to FAA employees and contractors should they be isolated overseas.

The authority for this collection resides in Presidential Policy Directive (PPD)/PPD-30, 22 U.S.C. 4802 and 22 U.S.C. 3927. The duty of an agency with employees in foreign countries is to ensure they fully comply with all applicable directives of the Chief of Mission. In order to protect FAA personnel on official duty abroad, the ITIC documents the Personally Identifiable Information (PII) of FAA employees and contractors to help aid in their authentication and recovery. The ITIC requests the following PII: Name, Date of Birth, Gender, Height, Weight, Hair and Eye Color, Clothing and Shoe Size, Race/Ethnic Group, Blood Type, Scars/Marks/Tattoos, Known Medical Conditions, Current Medical Prescriptions, Allergies, Contact Information, Specialized Training, Language(s) Spoken, as well as information about their Emergency Contact. The traveler will also create a Duress Word and Personal Authenticator Statements to aid in the identification.

This information will not be available to the public, and will be managed in accordance with applicable Records Management and Privacy Act policies. Only two International Travel Security Program Managers and the Senior Watch Officer of the Washington Operations Center can retrieve ITICs to aid employees and/or contractors during an isolating event, as determined by the Chief of Mission. The Chief of Mission, relying on situational factors, will make the ultimate decision with whom this information is shared, such as, but not limited to, the Department of Defense, in the event of a personnel recovery event.

Respondents: The FAA estimates 52 respondents because of the number of contractors who traveled internationally on official business in Fiscal Year 2023.

Frequency: As needed.

Estimated Average Burden per Response: 30 minutes per traveler.

Estimated Total Annual Burden: 26 hours per year.

Issued in Washington, DC, on April 19, 2024.
Michelle L. Salter,
Executive Director FAA, Office of Investigations and Professional Responsibility.

[FR Doc. 2024-09445 Filed 4-30-24; 8:45 am]

BILLING CODE 4910-13-P